DEPARTMENT OF HOMELAND SECURITY

Coast Guard

[Docket No. USCG-2019-0131]

Port Access Route Study: The Areas Offshore of Massachusetts and Rhode Island

AGENCY: Coast Guard, DHS.

ACTION: Notice of public meetings; request for comments.

SUMMARY: The Coast Guard announces an additional public meeting in Montauk, NY, to receive comments on a notice of study entitled “Port Access Route Study: The Areas Offshore of Massachusetts and Rhode Island” that was published in the Federal Register on Tuesday, March 26, 2019, (84 FR 11314). As stated in that document the Coast Guard is conducting a Massachusetts and Rhode Island Port Access Route Study (MARIPARS) to evaluate the need for establishing vessel routing measures.

DATES: Three public meetings will now be held to provide an opportunity for oral comments about the MARIPARS on Tuesday, April 23, 2019, from 6 p.m. to 9 p.m., Thursday, April 25, 2019, from 6 p.m. to 9 p.m., and on Monday, April 29, 2019, form 6 p.m. to 9 p.m. Written comments and related material may also be submitted to Coast Guard personnel specified at the meetings. The comment period for the notice of study closes on May 28, 2019. All comments and related material submitted after the meetings must be received by the Coast Guard on or before May 28, 2019. Commenters should be aware that the electronic Federal Docket Management System will not accept comments after midnight Eastern Daylight Time on the last day of the comment period.

ADDRESSES: You may submit comments identified by docket number USCG-2019-0131 using the Federal eRulemaking Portal at http://www.regulations.gov. See the “Public Participation and Request for Comments” portion of the SUPPLEMENTARY INFORMATION section for further instructions on submitting comments.

The public meeting on Tuesday, April 23, 2019, from 6 p.m. to 9 p.m., will be held at Corless Auditorium (Watkins Laboratory Building), University of Rhode Island, Graduate School of Oceanography at 215 South Ferry Road, Narragansett, RI 02882-1197.

The public meeting on Thursday, April 25, 2019, from 6 p.m. to 9 p.m., will be held at Flanagan Hall, Massachusetts Maritime Academy at 101 Academy Drive, Buzzards Bay, MA 02532.

The public meeting on Monday, April 29, 2019, from 6 p.m. to 9 p.m., will be held at Inlet Seafood Restaurant at 541 East Lake Drive, Montauk, NY 11954.

FOR FURTHER INFORMATION CONTACT: If you have questions about this notice or study call or email the Project Officer, Mr. Edward G. LeBlanc, Chief of Coast Guard Sector Southeastern New England Waterways Management Division, telephone (401) 435-2351; email Edward.G.LeBlanc@uscg.mil.

SUPPLEMENTARY INFORMATION:

I. Purpose and Background

On Tuesday, March 26, 2019 we published a notice of study entitled “Port Access Route Study: The Areas Offshore of Massachusetts and Rhode Island” in the Federal Register, (84 FR 11314), https://www.federalregister.gov/documents/2019/03/26/2019-05730/port-access-route-study-the-areas-offshore-of-massachusetts-and-rhode-island. In it we stated our intention to hold two public meetings at a location in Massachusetts and Rhode Island. Since the publication of the notice in the Federal Register we have received a request to hold a public meeting in the Montauk, NY area. This document is the notice of that meeting.

II. Public Participation and Request for Comments

We encourage you to participate in this study by submitting comments and related materials to the online public docket or orally at the public meetings. All comments received will be posted, without change, to http://www.regulations.gov and will include any personal information you have provided.

A. Submitting Comments: If you submit comments to the online public docket, please include the docket number for this rulemaking (USCG-2019-0131), indicate the specific section of this document to which each comment applies, and provide a reason for each suggestion or recommendation. We accept anonymous comments.

To submit your comment online, go to http://www.regulations.gov, and insert “USCG-2019-0131” in the “search box”. Click “Search”. Then click “Comment Now”. We will consider all comments and material received during the comment period.

B. Public Meetings: We now plan to hold three public meetings to receive oral comments on this notice. If you bring written comments to the public meeting, you may submit them to Coast Guard personnel specified at the meeting to receive written comments. These comments will be added to our online public docket. We recommend that you include your name and a mailing address, an email address, or a telephone number in the body of your document so that we can contact you if we have questions regarding your submission. Attendance at the public meeting is not required. We will provide a written summary of the oral comments received and will place that summary in the docket.

The first public meeting on Tuesday, April 23, 2019, from 6 p.m. to 9 p.m., will be held at Corless Auditorium (Watkins Laboratory Building), University of Rhode Island, Graduate School of Oceanography, 215 South Ferry Road, Narragansett, RI 02882-1197.

The second public meeting on Thursday, April 25, 2019, from 6 p.m. to 9 p.m., will be held at Flanagan Hall, Massachusetts Maritime Academy, 101 Academy Drive, Buzzards Bay, MA 02532.

The third public meeting on Monday, April 29,, 2019, from 6 p.m. to 9 p.m., will be held at Inlet Seafood Restaurant at 541 East Lake Drive, Montauk, NY 11954.

For information on facilities or services for individuals with disabilities or to request special assistance at the public meeting, contact Mr. Edward Leblanc at the telephone number or email address indicated under the FOR FURTHER INFORMATION CONTACT section of this notice.

C. Viewing the comments and documents: You may view the notice of study, comments submitted thus far, and documents mentioned in this preamble in our online docket by going to http://www.regulations.gov. Once there, click on the “read comments” box, which will then become highlighted in blue. In the “Keyword” box insert “USCG-2019-0131” and click “Search.” Click the “Open Docket Folder” in the “Actions” column.

D. Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316) https://www.federalregister.gov/documents/2008/01/17/E8-785/privacy-act-of-1974-system-of-records.

This notice is published under the authority of 46 U.S.C. 70004 and 5 U.S.C. 552(a).

Dated: April 1, 2019.
A.J. Tiongson,
Rear Admiral, U.S. Coast Guard, Commander, First Coast Guard District.

[FR Doc. 2019-07069 Filed 4-9-19; 8:45 am]

BILLING CODE 9110-04-P